DEPARTMENT OF HEALTH AND HUMAN SERVICES

Centers for Disease Control and Prevention

[30Day-14-0870]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Monitoring and Reporting System for Chronic Disease Prevention and Control Programs (OMB No. 0920-0870, exp. 11/30/2014)—Revision—National Center for Chronic Disease Prevention and Health Promotion (NCCDPHP), Centers for Disease Control and Prevention (CDC).

Background and Brief Description

Tobacco use is the single most preventable cause of death and disease in the United States. Tobacco use causes heart disease and strokes, lung cancer and many other types of cancer, chronic obstructive pulmonary disease, lung disorders, pregnancy problems, sudden infant death syndrome, gum disease, and vision problems. Approximately 480,000 Americans die from tobacco-related illnesses annually, a higher number of deaths than the combined total deaths from HIV/AIDS, alcohol use, cocaine use, heroin use, homicides, suicides, motor vehicle crashes, and fires. For every person who dies from tobacco use, 20 more people suffer with at least one serious tobacco-related illness. There are also severe economic consequences of tobacco use as the U.S. spends approximately $280 billion annually in direct medical expenses and lost productivity attributable to the effects of tobacco use.

The National Center for Chronic Disease Prevention and Health Promotion (NCCDPHP) provides funding to health departments in States, territories, and the District of Columbia to implement and evaluate chronic disease prevention and control programs, including tobacco control programs. Currently, CDC has cooperative agreements to support tobacco control programs in all 50 states and the District of Columbia under FOA DP14-1415, an extension of FOA DP09-901. These cooperative agreements technically ended on March 28, 2014, however a one-year cost extension (DP14-1415) was granted. Due to the cost extension, final reports on awardee activities are due to CDC approximately 90 days after the end of the funding period (Summer 2015).

In order to maintain continuity in progress reporting through the end of the cost extension, CDC requests OMB approval to continue the collection of information from tobacco control program awardees for one year. Awardees will continue to submit progress reports through a Web-based management information system (MIS).

CDC will continue to collect information about each awardee's tobacco control objectives, planning, activities, resources, partnerships, strategies, and progress toward meeting objectives. Awardees will use the information reported through the electronic MIS to manage and coordinate their activities and to improve their efforts. CDC will use the information reported through the MIS to document and monitor each awardee's progress and to make adjustments, as needed, in the type and level of technical assistance provided to them. The information collection allows CDC to oversee the use of federal funds, and identify and disseminate information about successful tobacco control strategies implemented by awardees. CDC also uses the information to respond to Congressional and stakeholder inquiries about awardee activities, program implementation, and program impact.

Progress reporting through the MIS is required for CDC funded awardees. There are no costs to respondents other than their time. There are no changes to the content of the information collection or the estimated burden per response. The only changes are a decrease in the number of tobacco control program respondents from 53 to 51, and a change in reporting frequency from semi-annual to annual. As a result, there will be a net reduction of 330 annualized burden hours. For the one-year period of this Revision request, the total estimated annualized burden hours are 306.

Estimated Annualized Burden Hours
Type of respondents | Form name | Number of respondents | Number of responses per respondent | Average burden per response (in hrs.)
State/District Department of Health, Tobacco Control Program | Management Information System | 51 | 1 | 6

Leroy A. Richardson,
Chief, Information Collection Review Office, Office of Scientific Integrity, Office of the Associate Director for Science, Office of the Director, Centers for Disease Control and Prevention.

[FR Doc. 2014-20880 Filed 9-2-14; 8:45 am]

BILLING CODE 4163-18-P